DEPARTMENT OF THE INTERIOR

National Park Service

[N6772; NPS-WASO-NAGPRA-NPS0041539; PPWOCRADN0-PCU00RP14.R50000]

Notice of Intended Repatriation: Alabama Department of Archives and History, Montgomery, AL

AGENCY: National Park Service, Interior.

ACTION: Notice.

SUMMARY: In accordance with the Native American Graves Protection and Repatriation Act (NAGPRA), the Alabama Department of Archives and History intends to repatriate certain cultural items that meet the definition of unassociated funerary objects and that have a cultural affiliation with the Indian Tribes or Native Hawaiian organizations in this notice.

DATES: Repatriation of the cultural items in this notice may occur on or after January 20, 2026.

ADDRESSES: Send additional, written requests for repatriation of the cultural items in this notice to John Robert Elmore, III, Alabama Department of Archives and History, 624 Washington Avenue, Montgomery, AL 36104, email nagpra.adah@archives.alabama.gov.

SUPPLEMENTARY INFORMATION: This notice is published as part of the National Park Service's administrative responsibilities under NAGPRA. The determinations in this notice are the sole responsibility of the Alabama Department of Archives and History, and additional information on the determinations in this notice, including the results of consultation, can be found in the summary or related records. The National Park Service is not responsible for the determinations in this notice.

Abstract of Information Available

A total number of 14 cultural items have been requested for repatriation. The 14 unassociated funerary objects are 13 brass buttons and one brass bracelet. The objects were removed from Neshoba County, Mississippi, and then donated to the Alabama Department of Archives and History in 1909. Consultation determined that culturally affiliated Indian tribes include Mississippi Band of Choctaw Indians and The Choctaw Nation of Oklahoma. The Alabama Department of Archives and History has no information about the unassociated funerary objects being treated with pesticides, preservatives, or other substances that represent a potential hazard to the objects or to persons handling the objects.

Determinations

The Alabama Department of Archives and History has determined that:

• The 14 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural items described in this notice and the Mississippi Band of Choctaw Indians and The Choctaw Nation of Oklahoma.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 20, 2026. If competing requests for repatriation are received, the Alabama Department of Archives and History must determine the most appropriate requestor prior to repatriation. Requests for joint repatriation of the cultural items are considered a single request and not competing requests. The Alabama Department of Archives and History is responsible for sending a copy of this notice to the Indian Tribes and Native Hawaiian organizations identified in this notice and to any other consulting parties.

Authority: Native American Graves Protection and Repatriation Act, 25 U.S.C. 3004 and the implementing regulations, 43 CFR 10.9.

Dated: December 4, 2025.
Melanie O'Brien,
Manager, National NAGPRA Program.

[FR Doc. 2025-23345 Filed 12-18-25; 8:45 am]

BILLING CODE 4312-52-P